DEPARTMENT OF THE INTERIOR

Bureau of Land Management

[LLNVL01000 L51010000.ER0000.LVRWF09F1640 241A; N-82076; 11-08807; MO#4500019905; TAS: 14X5017]

Notice of Availability of the Record of Decision for the One Nevada Transmission Line (ON Line) Project, Nevada

AGENCY: Bureau of Land Management, Interior.

ACTION: Notice of availability.

SUMMARY: The Bureau of Land Management (BLM) announces the availability of the Record of Decision (ROD) to authorize the granting of Rights-of-Way (ROW) for the construction of the One Nevada Transmission Line (ON Line) Project. Lands described in the ROW authorizations are located within the BLM Ely District Office's management area in White Pine, Nye, and Lincoln counties, Nevada; and the BLM Southern Nevada District in Clark County, Nevada. The Ely District Office was designated the project lead by the BLM Nevada State Director. The Ely District Manager has signed the ROD, which constitutes the final decision of the BLM. The appeal period for this decision will end 30 days after publication of this notice in accordance with 43 CFR 4.411(a).

ADDRESSES: Printed copies of the ROD or electronic files on compact disk are available upon request from the Field Manager, Egan Field Office, Bureau of Land Management, HC 33 Box 33500, Ely, Nevada 89301. The ROD is also available at the following Web site: http://www.blm.gov/nv/st/en/fo/ely_field_office. Printed copies of the ROD are available for public inspection at several locations listed in the SUPPLEMENTARY INFORMATION section of this notice.

A limited number of copies of the document will be available at the following BLM offices:

—Las Vegas District Office, 4701 North Torrey Pines, Las Vegas, Nevada;

—Ely District Office, 702 North Industrial Way, Ely, Nevada; and

—Nevada State Office, 1340 Financial Boulevard, Reno, Nevada.

FOR FURTHER INFORMATION CONTACT: Doris Metcalf, telephone: (775) 289-1852, or e-mail: doris_metcalf@blm.gov.

SUPPLEMENTARY INFORMATION: Printed copies of the ROD are available for public inspection at the following locations:

—University of Nevada-Reno, Getchell Library, Government Publication Dept., Reno, Nevada;

—Washoe County Library, 301 South Center Street, Reno, Nevada;

—White Pine County Library, 950 Campton Street, Ely, Nevada;

—Nye County Library, 167 S. Central Street, Tonopah, Nevada;

—Lincoln County Library, 63 Main Street, Pioche, Nevada; and

—Clark County Library, 1401 E. Flamingo Rd., Las Vegas, Nevada.

The main issues addressed in the Final EIS were visual resources, biological resources, lands with wilderness characteristics, and socioeconomic effects. Three alternatives were analyzed in the Final EIS: (1) The Proposed Action, in which the power line would be located largely within West-Wide Energy Corridors; (2) an alternative alignment within the corridors; and (3) no Action, which would be to not authorize the ROW.

After careful consideration of many factors, including the need to provide electricity to the Western United States and strengthening and stabilizing the economies of White Pine, Nye, Lincoln, and Clark Counties, and balancing those factors with the need to protect air, visual and biological resources, the BLM has selected the agency preferred alternative. The BLM's preferred alternative will approve all of the facilities described in the Proposed Action, including the transmission-line route, except the R-SS-Site B sub-alternative, including the access road and Falcon-Gondor loop-ins will replace the Robinson Summit Substation components. Various site-specific applicant-committed mitigation measures will be implemented at the development stage to protect other resources and uses.

Comments on the ON Line Draft Supplemental EIS received from the public, cooperating agencies and internal BLM reviewers were incorporated into the Final EIS. The comments resulted in corrections, clarifying text, and the addition of new text used in the analysis of impacts. The ON Line Final EIS addresses impacts of the power line on private lands and those administered by the BLM.

This decision is subject to appeal to the Interior Board of Land Appeals (IBLA) as provided in 43 CFR part 4, within 30 days from the date of publication of this Notice of Availability in the Federal Register. The ROD contains instructions for filing an appeal with the IBLA.

The ROD for this project addresses only BLM's decisions for public lands and resources administered by BLM.

Rosemary Thomas,
District Manager, Ely District Office.

[FR Doc. 2011-6461 Filed 3-17-11; 8:45 am]

BILLING CODE 4310-HC-P